DEPARTMENT OF JUSTICE

U.S. Antitrust Division

Federal Register Notice; United States v. Cemex, S.A.B. de C.V. and Rinker Group Limited; Proposed Modification of the Modified Final Judgment

Take notice that a Joint Motion to Establish Notice and Comment Procedures and to Modify the Modified Final Judgment, a Memorandum of Plaintiff United States in Support of Joint Motion to Establish Notice and Comment Procedures and to Modify the Modified Final Judgment have been filed, and a proposed Order to Establish Notice and Comment Procedures for the Modification of the Modified Final Judgment has been entered, in the United States District Court for the District of Columbia in United States v. Cemex, S.A.B. de C.V. and Rinker Group Limited, Civil No. 1:07-cv-00640. On April 4, 2007, the United States filed a Complaint (and an Amended Complaint on May 2, 2007) alleging that Cemex, S.A.B. de C.V.'s (“Cemex”) proposed acquisition of Rinker Group Limited (“Rinker”) would violate Section 7 of the Clayton Act, 15 U.S.C. 18, by substantially lessening competition in the production and distribution of ready mix concrete in the metropolitan areas of Fort Walton Beach/Panama City/Pensacola, Jacksonville, Orlando, Tampa/St. Petersburg, Fort Myers/Naples, Florida, and the metropolitan areas of Flagstaff and Tucson, Arizona. In addition, the acquisition would have substantially lessened competition in the production and distribution of concrete block in metropolitan Tampa/St. Petersburg and Fort Myers/Naples, Florida. Finally, the acquisition would have substantially lessened competition in the production and distribution of aggregate in metropolitan Tucson, Arizona.

The Modified Final Judgment, entered on November 28, 2007, required Cemex to divest 39 ready mix concrete, concrete block, and aggregate plants that served metropolitan areas in Florida and Arizona, including the Orlando, Florida area. On November 30, 2007, Cemex divested these assets to CRH plc (“CRH”). The current proposed modification would allow Cemex to reacquire Rinker's Kennedy ready mix concrete plant, located at 1406 Atlanta Avenue, Orlando, Florida 32806, which was one of the plants divested to CRH. Cemex's reacquisition of the Kennedy plant is conditioned on CRH's acquisition of Cemex's own plant in Orlando, which is located only one-half mile away from the Kennedy plant.

Copies of the Joint Motion to Establish Notice and Comment Procedures and to Modify the Modified Final Judgment, the Memorandum of Plaintiff United States in Support of Joint Motion to Establish Notice and Comment Procedures and to Modify the Modified Final Judgment, and the proposed Order to Establish Notice and Comment Procedures for the Modification of the Modified Final Judgment, and all other papers filed with the Court in connection with the motion are available for inspection at the Department of Justice, Antitrust Division, Antitrust Documents Group, 450 Fifth Street, NW., Suite 1010, Washington, DC 20530 (202-514-2481), on the Department of Justice Web site (http://www.usdoj.gov/atr), and at the Office of the Clerk of the United States District Court for the District of Columbia.

Interested persons may address comments to Maribeth Petrizzi, Chief, Litigation II, Antitrust Division, U.S. Department of Justice, City Center Building, 1401 H Street, NW., Suite 3000, Washington, DC 20530 (202-307-0924), within 30 days of the date of this notice.

Patricia Brink,
Deputy Director of Operations.

[FR Doc. E9-1042 Filed 1-16-09; 8:45 am]

BILLING CODE 4410-11-P